DEPARTMENT OF ENERGY

Federal Energy Regulatory Commission

Combined Notice of Filings

Take notice that the Commission has received the following Natural Gas Pipeline Rate and Refund Report filings:

Filings Instituting Proceedings

Docket Numbers: RP15-656-000.

Applicants: Transcontinental Gas Pipe Line Company.

Description: Section 4(d) rate filing per 154.403: LSS and SS-2 Fuel Tracker Filing 2015 to be effective 4/1/2015.

Filed Date: 3/18/15.

Accession Number: 20150318-5147.

Comments Due: 5 p.m. ET 3/30/15.

Docket Numbers: RP15-657-000.

Applicants: Equitrans, L.P.

Description: Section 4(d) rate filing per 154.204: Negotiated Capacity Release Agreement—3/19/2015 to be effective 3/19/2015.

Filed Date: 3/19/15.

Accession Number: 20150319-5025.

Comments Due: 5 p.m. ET 3/31/15.

Docket Numbers: RP15-658-000.

Applicants: Enable Gas Transmission, LLC.

Description: Section 4(d) rate filing per 154.204: Negotiated Rate Filing—SND Non-Conforming 0414 (RS FT) to be effective 2/1/2015.

Filed Date: 3/19/15.

Accession Number: 20150319-5132.

Comments Due: 5 p.m. ET 3/31/15.

Docket Numbers: RP15-659-000.

Applicants: Portland Natural Gas Transmission System.

Description: Compliance filing per 154.203: Compliance to Order 801—Docket No. RM14-21-000 to be effective 6/1/2015.

Filed Date: 3/20/15.

Accession Number: 20150320-5022.

Comments Due: 5 p.m. ET 4/1/15.

Docket Numbers: RP15-660-000.

Applicants: Gulf South Pipeline Company, LP.

Description: Section 4(d) rate filing per 154.204: Amendments to Neg Rate Agmts (QEP 37657-137, 36601-40) to be effective 3/20/2015.

Filed Date: 3/20/15.

Accession Number: 20150320-5023.

Comments Due: 5 p.m. ET 4/1/15.

Docket Numbers: RP15-661-000.

Applicants: Natural Gas Pipeline Company of America.

Description: Section 4(d) rate filing per 154.204: Negotiated Rate—Occidental Energy to be effective 4/1/2015.

Filed Date: 3/20/15.

Accession Number: 20150320-5117.

Comments Due: 5 p.m. ET 4/1/15.

Docket Numbers: RP15-662-000.

Applicants: Leaf River Energy Center LLC.

Description: Compliance filing per 154.203: Leaf River Energy Center LLC—Order No. 801 Compliance Filing to be effective 4/1/2015.

Filed Date: 3/20/15.

Accession Number: 20150320-5154.

Comments Due: 5 p.m. ET 4/1/15.

Docket Numbers: RP15-663-000.

Applicants: ANR Storage Company.

Description: Compliance filing per 154.203: Compliance to Order 801—Docket No. RM14-21-000 to be effective 6/1/2015.

Filed Date: 3/23/15.

Accession Number: 20150323-5052.

Comments Due: 5 p.m. ET 4/6/15.

Docket Numbers: RP15-664-000.

Applicants: Blue Lake Gas Storage Company.

Description: Compliance filing per 154.203: Compliance to Order 801—Docket No. RM14-21-000 to be effective 6/1/2015.

Filed Date: 3/23/15.

Accession Number: 20150323-5053.

Comments Due: 5 p.m. ET 4/6/15.

Docket Numbers: RP15-665-000.

Applicants: Bison Pipeline LLC.

Description: Compliance filing per 154.203: Compliance to Order 801—Docket No. RM14-21-000 to be effective 6/1/2015.

Filed Date: 3/23/15.

Accession Number: 20150323-5054.

Comments Due: 5 p.m. ET 4/6/15.

Docket Numbers: RP15-666-000.

Applicants: Horizon Pipeline Company, L.L.C.

Description: Penalty Revenue Crediting Report of Horizon Pipeline Company, L.L.C.

Filed Date: 3/20/15.

Accession Number: 20150320-5266.

Comments Due: 5 p.m. ET 4/1/15.

Docket Numbers: RP15-667-000.

Applicants: Midcontinent Express Pipeline LLC.

Description: Penalty Revenue Crediting Report of Midcontinent Express Pipeline LLC.

Filed Date: 3/20/15.

Accession Number: 20150320-5267.

Comments Due: 5 p.m. ET 4/1/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1371-002.

Applicants: Eastern Shore Natural Gas Company.

Description: Compliance filing per 154.203: Compliance with Order No. 801 to be effective 4/1/2015.

Filed Date: 3/19/15.

Accession Number: 20150319-5042.

Comments Due: 5 p.m. ET 3/31/15.

Docket Numbers: RP15-584-001.

Applicants: Rockies Express Pipeline LLC.

Description: Tariff Amendment per 154.205(b): Errata to RP15-584 to be effective 4/1/2015.

Filed Date: 3/23/15.

Accession Number: 20150323-5000.

Comments Due: 5 p.m. ET 4/6/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2015.
Nathaniel J. Davis, Sr.,
Deputy Secretary.

[FR Doc. 2015-07164 Filed 3-27-15; 8:45 am]

BILLING CODE 6717-01-P